DEPARTMENT OF ENERGY

Federal Energy Regulatory Commission

Combined Notice of Filings # 1

September 23, 2008.

Take notice that the Commission received the following electric rate filings:

Docket Number: ER97-851-019.

Applicants: Hydro-Quebec Energy Services (U.S.) Inc.

Description: H.Q. Energy Services (U.S.) Inc.'s Notice of Non-Material Change in Status.

Filed Date: 09/19/2008.

Accession Number: 20080919-5121.

Comment Date: 5 p.m. Eastern Time on Friday, October 10, 2008.

Docket Number: ER02-1884-006.

Applicants: Waterside Power, LLC.

Description: Waterside Power, LLC affirms that none of Waterside or any of its affiliates has erected or will erect barriers to entry into the relevant market.

Filed Date: 09/17/2008.

Accession Number: 20080922-0255.

Comment Date: 5 p.m. Eastern Time on Wednesday, October 8, 2008.

Docket Numbers: ER02-1398-005; ER98-564-011; ER07-1274-002; ER05-111-005; ER08-25-004; ER08-26-004; ER08-685-003.

Applicants: KeySpan-Ravenswood, LLC; TransCanada Power Marketing Ltd; TransCanada Energy Marketing ULC; TransCanada Hydro Northeast Inc.; Ocean State Power; Ocean State Power II; TransCanada Maine Wind Development Inc.

Description: Key-Span Ravenswood, LLC et al. submits notification of a non-material change in status with respect to the market based rate authority.

Filed Date: 09/22/2008.

Accession Number: 20080923-0061.

Comment Date: 5 p.m. Eastern Time on Tuesday, October 14, 2008.

Docket Numbers: ER08-799-002.

Applicants: Consolidated Edison Co. of New York, Inc.

Description: Consolidated Edison Company of New York, Inc submits their Master Service Agreement.

Filed Date: 09/22/2008.

Accession Number: 20080923-0062.

Comment Date: 5 p.m. Eastern Time on Tuesday, October 14, 2008.

Docket Numbers: ER08-416-004; ER06-1552-006.

Applicants: Midwest Independent Transmission System Operator, Inc.

Description: Midwest Independent Transmission System Operator, Inc submits proposed revisions to its current Open Access Transmission and Markets Tariff and its Open Access Transmission Energy and Operating Reserve Markets Tariff.

Filed Date: 09/17/2008.

Accession Number: 20080919-0067.

Comment Date: 5 p.m. Eastern Time on Wednesday, October 8, 2008.

Docket Numbers: ER08-921-001.

Applicants: Pacific Gas and Electric Company.

Description: Pacific Gas and Electric Company submits revisions to Appendices B and E of the Interconnection Agreement between PG&E and the Sacramento Municipal Utility District designated as PG&E Second Revised Rate Schedule FERC 136.

Filed Date: 09/18/2008.

Accession Number: 20080919-0007.

Comment Date: 5 p.m. Eastern Time on Thursday, October 9, 2008.

Docket Numbers: ER08-1201-001.

Applicants: Southwestern Electric Power Company.

Description: American Electric Power Service Corporation on behalf of Southwestern Electric Power Company submits a Refund Report

Filed Date: 09/18/2008.

Accession Number: 20080918-5084.

Comment Date: 5 p.m. Eastern Time on Thursday, October 9, 2008.

Docket Numbers: ER07-1402-002.

Applicants: Allegheny Generating Company.

Description: Supplemental Information/Amended and Restated Settlement Agreement of Allegheny Generating Company.

Filed Date: 08/01/2008.

Accession Number: 20080801-5069.

Comment Date: 5 p.m. Eastern Time on Friday, October 3, 2008.

Docket Numbers: ER08-1149-002.

Applicants: Westar Energy, Inc.

Description: Westar Energy, Inc submits Alternate Pro Forma Sheet 30 to Westar's pro forma Formula Rate Agreement for Full Requirements Electric Service between Westar and the City of Elwood, Kansas etc.

Filed Date: 09/19/2008.

Accession Number: 20080922-0030.

Comment Date: 5 p.m. Eastern Time on Friday, October 10, 2008.

Docket Numbers: ER08-1416-000.

Applicants: Black Hills/Colorado Electric Utility Co.

Description: Black Hills/Colorado Electric Utility Co, LP submits Notice of Succession notifying that they have succeeded to the open access transmission tariff of Aquila, Inc.

Filed Date: 08/13/2008.

Accession Number: 20080819-0279.

Comment Date: 5 p.m. Eastern Time on Friday, October 3, 2008.

Docket Numbers: ER08-1454-001.

Applicants: Westar Energy, Inc.

Description: Westar Energy, Inc et. al submits Substitute Original Sheet Nos 1-12 correcting the volume identification.

Filed Date: 09/16/2008.

Accession Number: 20080917-0244.

Comment Date: 5 p.m. Eastern Time on Tuesday, October 7, 2008.

Docket Numbers: ER08-1513-001.

Applicants: ISO New England Inc.

Description: ISO New England Inc submits the Errata to the Informational Filing for Qualification in the Forward Capacity Market filed by ISO New England Inc on 9/9/08.

Filed Date: 09/16/2008.

Accession Number: 20080917-0245.

Comment Date: 5 p.m. Eastern Time on Tuesday, October 7, 2008.

Docket Numbers: ER08-1542-000.

Applicants: U.S. Gas and Electric Inc.

Description: U.S. Gas & Electric Inc request acceptance of FERC Electric Tariff, Original Volume 1, which it will engage in wholesale sales of electric energy etc.

Filed Date: 09/17/2008.

Accession Number: 20080919-0066.

Comment Date: 5 p.m. Eastern Time on Wednesday, October 8, 2008.

Docket Numbers: ER08-1547-000.

Applicants: PacifiCorp.

Description: PacifiCorp submits Network Integration Transmission Service Agreement dated 8/19/08 with Basin Electric Power Cooperative designated as Service Agreement 505, Seventh Revised Volume 11 OATT et al.

Filed Date: 09/17/2008.

Accession Number: 20080917-0241.

Comment Date: 5 p.m. Eastern Time on Wednesday, October 8, 2008.

Docket Numbers: ER08-1548-000.

Applicants: Northeast Utilities Service Company, National Grid USA.

Description: Joint Application for Transmission Incentives of Northeast Utilities Service Company and National Grid USA.

Filed Date: 09/17/2008.

Accession Number: 20080919-0080.

Comment Date: 5 p.m. Eastern Time on Wednesday, October 8, 2008.

Docket Numbers: ER08-1550-000.

Applicants: Duke Energy Carolinas, LLC.

Description: Duke Energy Carolinas, LLC submits proposed changes to its Revised and Restated Interconnection Agreement with North Carolina Electric Membership Corporation, which is being designated as Duke Energy Fourth Revised etc.

Filed Date: 09/17/2008.

Accession Number: 20080919-0013.

Comment Date: 5 p.m. Eastern Time on Wednesday, October 8, 2008.

Docket Numbers: ER08-1551-000.

Applicants: Duke Energy Carolinas, LLC.

Description: Duke Energy Carolinas, LLC submits proposed changes to its Revised and Restated Interconnection Agreement with North Carolina Electric Membership Corporation, which is being designated as Duke Energy Fourth Revised etc.

Filed Date: 09/17/2008.

Accession Number: 20080919-0013.

Comment Date: 5 p.m. Eastern Time on Wednesday, October 8, 2008.

Docket Numbers: ER08-1552-000.

Applicants: Sierra Pacific Resources Operating Company.

Description: Nevada Power Company and Sierra Pacific Power Company submits revisions to its FERC Electric Tariff, Third Revised Volume 1 Open Access Transmission Tariff.

Filed Date: 09/17/2008.

Accession Number: 20080919-0005.

Comment Date: 5 p.m. Eastern Time on Wednesday, October 8, 2008.

Docket Numbers: ER08-1553-000.

Applicants: PJM Interconnection, L.L.C.

Description: PJM Interconnection, LLC submits an executed interconnection service agreement among PJM, RPL Holdings, Inc and Public Service Electric and Gas Company and a notice of cancellation of an ISA being superseded.

Filed Date: 09/17/2008.

Accession Number: 20080919-0006.

Comment Date: 5 p.m. Eastern Time on Wednesday, October 8, 2008.

Docket Numbers: ER08-1554-000.

Applicants: American Electric Power Service Corporation.

Description: American Electric Power Services Corporation submits a fully executed generation interconnection agreement dated 8/29/08 with Texas Central Company Transmission Service Provider & EC&R Papalote Creek I, LLC.

Filed Date: 09/18/2008.

Accession Number: 20080922-0029.

Comment Date: 5 p.m. Eastern Time on Thursday, October 9, 2008.

Docket Numbers: ER08-1555-000.

Applicants: PJM Interconnection, L.L.C.

Description: PJM Interconnection, LLC submits an executed interconnection service agreement among PJM, Big Sky Wind, LLC and Commonwealth Edison Company.

Filed Date: 09/18/2008.

Accession Number: 20080922-0028.

Comment Date: 5 p.m. Eastern Time on Thursday, October 9, 2008.

Docket Numbers: ER08-1556-000.

Applicants: Midwest Independent Transmission System.

Description: Midwest Independent Transmission System Operator, Inc submits revisions to Schedules 7, 8, and 9 of their Open Access Transmission and Energy Markets Tariff, to be effective 11/18/08.

Filed Date: 09/19/2008.

Accession Number: 20080923-0004.

Comment Date: 5 p.m. Eastern Time on Friday, October 10, 2008.

Docket Numbers: ER08-1557-000.

Applicants: Freedom Partners, LLC.

Description: Freedom Partners, LLC submits a Notice of Cancellation of FERC Electric Tariff, Original Volume 1, to be effective 11/1/08.

Filed Date: 09/19/2008.

Accession Number: 20080923-0003.

Comment Date: 5 p.m. Eastern Time on Friday, October 10, 2008.

Docket Numbers: ER08-1558-000.

Applicants: Constellation Energy Commodities Group.

Description: Constellation Energy Commodities Group, Inc requests a short-term waiver of the Commission's affiliate sales restrictions, effective 9/19/08.

Filed Date: 09/19/2008.

Accession Number: 20080923-0002.

Comment Date: 5 p.m. Eastern Time on Friday, October 10, 2008.

Docket Numbers: ER08-1559-000.

Applicants: Golden Spread Electric Cooperative, Inc.

Description: Golden Spread Electric Coop, Inc submits First Revised Sheet 400-403 and 405-499 to First Revised Rate Schedule 23-33.

Filed Date: 09/19/2008.

Accession Number: 20080923-0006.

Comment Date: 5 p.m. Eastern Time on Friday, October 10, 2008.

Docket Numbers: ER08-1562-000.

Applicants: TC Ravenswood, LLC.

Description: TC Ravenswood, LLC submits Notice of Succession notifying FERC of a corporate name change, and to adopt, as their own, FERC Electric Tariff of KeySpan-Ravenswood, LLC.

Filed Date: 09/22/2008.

Accession Number: 20080923-0063.

Comment Date: 5 p.m. Eastern Time on Tuesday, October 14, 2008.

Take notice that the Commission received the following electric securities filings:

Docket Numbers: ES08-65-000.

Applicants: Michigan Electric Transmission Co., LLC.

Description: Application of Michigan Electric Transmission Company, LLC under Section 204 of the Federal Power Act.

Filed Date: 09/18/2008.

Accession Number: 20080918-5053.

Comment Date: 5 p.m. Eastern Time on Thursday, October 9, 2008.

Docket Numbers: ES08-66-000.

Applicants: ITC Midwest LLC.

Description: Application of ITC Midwest LLC under Section 204 of the Federal Power Act.

Filed Date: 09/18/2008.

Accession Number: 20080918-5068.

Comment Date: 5 p.m. Eastern Time on Thursday, October 9, 2008.

Take notice that the Commission received the following open access transmission tariff filings:

Docket Numbers: OA07-104-002.

Applicants: Maine Public Service Company.

Description: Maine Public Service Company Compliance Filing With Revisions To Attachment C.

Filed Date: 09/19/2008.

Accession Number: 20080919-5099.

Comment Date: 5 p.m. Eastern Time on Friday, October 10, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov, or call (866) 208-3676 (toll free). For TTY, call (202) 502-8659.

Nathaniel J. Davis, Sr.,
Deputy Secretary.

[FR Doc. E8-22864 Filed 9-29-08; 8:45 am]

BILLING CODE 6717-01-P